DEPARTMENT OF LABOR

Mine Safety and Health Administration

[OMB Control No. 1219-0048]

Proposed Extension of Existing Information Collection; Respirator Program Records

AGENCY: Mine Safety and Health Administration, Labor.

ACTION: Notice of request for public comments.

SUMMARY: The Department of Labor, as part of its continuing effort to reduce paperwork and respondent burden, conducts a pre-clearance consultation program to provide the general public and Federal agencies with an opportunity to comment on proposed and continuing collections of information in accordance with the Paperwork Reduction Act of 1995 (44 U.S.C. 3506(c)(2)(A)). This program helps to assure that requested data can be provided in the desired format, reporting burden (time and financial resources) is minimized, collection instruments are clearly understood, and the impact of collection requirements on respondents can be properly assessed. Currently, the Mine Safety and Health Administration (MSHA) is soliciting comments concerning the extension of the information collection for Respiratory Protection Program Records under 30 CFR 56.5005 and 57.5005.

DATES: All comments must be postmarked or received by midnight Eastern Standard Time on March 21, 2011.

ADDRESSES: Comments must be identified clearly with the rule title and may be submitted to MSHA by any of the following methods:

(1) Electronic mail: zzMSHA-Comments@dol.gov.

(2) Facsimile: 202-693-9441.

(3) Regular Mail: MSHA, Office of Standards, Regulations, and Variances, 1100 Wilson Boulevard, Room 2350, Arlington, VA 22209-3939.

(4) Hand Delivery or Courier: MSHA, Office of Standards, Regulations, and Variances, 1100 Wilson Boulevard, Room 2350, Arlington, VA 22209-3939. Sign in at the receptionist's desk on the 21st floor.

FOR FURTHER INFORMATION CONTACT: Mario Distasio, Chief of the Economic Analysis Division, Office of Standards, Regulations, and Variances, MSHA, at distasio.mario@dol.gov (e-mail), 202-693-9445 (voicemail), 202-693-9441 (facsimile).

SUPPLEMENTARY INFORMATION:

I. Background

Section 101(a)(7) of the Federal Mine Safety and Health Act of 1977 mandates in part that mandatory standards prescribe the use of protective equipment where appropriate to protect miners against hazards. Where protective equipment or respirators are required because of exposure to harmful substances, MSHA must assure that such equipment offers adequate protection for workers. A written respiratory protection program that addresses such issues as selection, fitting, use, and maintenance of respirators is essential for ensuring that workers are properly and effectively using the equipment.

Title 30 CFR 56.5005 and 57.5005 require metal and nonmetal mine operators to institute a respiratory protection program governing selection, maintenance, training, fitting, supervision, cleaning, and use of respirators. The primary objective is to prevent atmospheric contamination, and thus, those occupational diseases caused by breathing air contaminated with harmful dusts, fumes, mists, gases, or vapors. Mine operators are required to control atmospheric contamination using feasible engineering control measures. When effective controls are not feasible, or while they are being implemented or installed, or during occasional entry into hazardous atmospheres to perform maintenance or investigations, miners are to use appropriate respirators in accordance with established procedures and an effective respiratory protection program.

Sections 56.5005 and 57.5005 incorporate by reference requirements of the American National Standards Institute's Practices for Respiratory Protection (ANSI Z88.2-1969). These incorporated requirements mandate that miners who must wear respirators be fit-tested to the respirators that they will use. Certain records are required to be kept in connection with respirators, including records of the date of fit-testing and issuance of the respirator, and a record of the fit-test results. The fit-testing records are essential for determining that the worker is wearing the appropriate respirator.

The mine operator uses the respiratory protection program procedures and records to issue appropriate respiratory protection to miners when feasible engineering and/or administrative controls do not reduce the exposure to permissible levels. Fit-testing records are used to assure that a respirator worn by an individual is the one for which that individual received a tight fit. MSHA uses the information to determine compliance with the standard.

II. Desired Focus of Comments

MSHA is particularly interested in comments that:

• Evaluate whether the collection of information is necessary for the proper performance of the functions of the agency, including whether the information has practical utility;

• Evaluate the accuracy of the agency's estimate of the burden of the collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

A copy of the information collection request can be obtained by contacting the person listed in the FOR FURTHER INFORMATION CONTACT section of this notice, or viewed on the Internet by selecting “Rules & Regs”, and then selecting “FedReg.Docs”. On the next screen, select “Paperwork Reduction Act Supporting Statement” to view documents supporting the Federal Register notice.

III. Current Actions

This notice contains the request for an extension of the existing collection of information in 30 CFR 56.5005 and 57.5005. MSHA does not intend to publish the results from this information collection and is not seeking approval to either display or not display the expiration date for the OMB approval of this information collection.

There are no certification exceptions identified with this information collection and the collection of this information does not employ statistical methods.

Type of Review: Extension.

Agency: Mine Safety and Health Administration.

OMB Number: 1219-0048.

Frequency: On Occasion.

Affected Public: Business or other for-profit.

Cost to Federal Government: No cost to Federal Government.

Total Burden Respondents: 400.

Total Number of Responses: 7,200.

Total Burden Hours: 2,898 hours.

Total Hour Burden Cost (operating/maintaining): $173,098.

Comments submitted in response to this notice will be summarized and included in the request for Office of Management and Budget approval of the information collection request; they will also become a matter of public record.

Dated: January 12, 2011.
Patricia W. Silvey,
Certifying Officer.

[FR Doc. 2011-954 Filed 1-18-11; 8:45 am]

BILLING CODE 4510-43-P